DEPARTMENT OF ENERGY

Federal Energy Regulatory Commission

[Docket No. RP04-204-002]

Northern Border Pipeline Company; Notice of Compliance Filing

September 3, 2004.

Take notice that on August 31, 2004, Northern Border Pipeline Company (Northern Border) tendered for filing as part of its FERC Gas Tariff, First Revised Volume No. 1, the following tariff sheets, to become effective September 1, 2004:

Fourth Revised Sheet No. 98

First Revised Sheet No. 188

Second Revised Sheet No. 184

Original Sheet No. 188A

Third Revised Sheet No. 185

First Revised Sheet No. 192

Original Sheet No. 185A

Seventh Revised Sheet No. 212

Substitute First Revised Sheet No. 186

Sixth Revised Sheet No. 214A

Substitute First Revised Sheet No. 187

Substitute Third Revised Sheet No. 467

Original Sheet No. 187A

Northern Border states that the purpose of this motion is to comply with the Commission's Order issued on March 30, 2004, in Docket No. RP04-204-000 (106 FERC ¶ 61,327) .

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2150 Filed 9-9-04; 8:45 am]

BILLING CODE 6717-01-P